ENVIRONMENTAL PROTECTION AGENCY

[OPP-2005-0124; FRL-7738-2]

1,3-Dichloropropene Risk Assessment; Notice of Availability; Extension of Comment Period

AGENCY: Environmental Protection Agency (EPA).

ACTION: Notice; extension of comment period.

SUMMARY: EPA issued a notice in the Federal Register of July 13, 2005, concerning the availability of EPA's human health risk assessment and related documents for the fumigant 1,3-dichloropropene (1,3-D), which is commonly known as telone. This document is extending the comment period for 30 days, from September 12, 2005, to October 12, 2005.

DATES: Comments must be received on or before October 12, 2005.

ADDRESSES: Comments, identified by docket identification (ID) number OPP-2005-0124, may be submitted electronically, by mail, or through hand delivery/courier. Follow the detailed instructions as provided in Unit I.C. of the SUPPLEMENTARY INFORMATION of the July 13, 2005 Federal Register document.

FOR FURTHER INFORMATION CONTACT: Diane Sherman, Special Review and Reregistration Division (7508C), Office of Pesticide Programs, Environmental Protection Agency, 1200 Pennsylvania Ave., NW., Washington, DC 20460-0001; telephone number: (703) 308-0128; fax number: (703) 308-8041; e-mail address:sherman.diane@epa.gov.

SUPPLEMENTARY INFORMATION:

I. General Information

A. Does this Action Apply to Me?

The Agency included in the July 13, 2005 Federal Register document a list of those who may be potentially affected by this action. If you have questions regarding the applicability of this action to a particular entity, consult the person listed under FOR FURTHER INFORMATION CONTACT.

B. How Can I Get Copies of this Document and Other Related Information?

1. Docket. EPA has established an official public docket for this action under docket ID number OPP-2005-0124. The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), Rm. 119, Crystal Mall #2, 1801 S. Bell St., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to submit or view public comments, access the index listing of the contents of the official public docket, and to access those documents in the public docket that are available electronically. Once in the system, select “search,” then key in the appropriate docket ID number.

C. How and to Whom Do I Submit Comments?

To submit comments, or access the official public docket, please follow the detailed instructions as provided in Unit I.C. of the SUPPLEMENTARY INFORMATION of the July 13, 2005 Federal Register document. If you have questions, consult the person listed under FOR FURTHER INFORMATION CONTACT.

II. What Action is EPA Taking?

This document extends the public comment period established in the Federal Register of July 13, 2005 (70 FR 40342) (FRL-7221-9). In that document, EPA made available the human health risk assessment for the soil fumigant 1,3-D, which is commonly known as telone. A soil fumigant, 1,3-D is applied to control parasitic root-knot nematodes and certain pests and diseases in soil prior to the planting of a variety of food and feed crops including vegetable crops, field crops, fruit and nut crops, and nursery crops. 1,3-D is also registered for use on golf courses and there are proposed uses for turf farms and post-plant in established vineyards. 1,3-D is also a restricted use pesticide and as such can only be applied by certified applicators or those under the supervision of a certified applicator. End-use product formulations containing 1,3-D may be applied through drip irrigation or by injection below the soil surface either in rows or broadcast across an area. EPA is hereby extending the comment period, which was set to end on September 12, 2005, to October 12, 2005. The Agency received a request from the Society of American Florists and is therefore, granting the extension based on the volume and complexity of the documents being reviewed.

List of Subjects

Environmental protection, Pesticides and pests.

Dated: September 7, 2005.
Debra Edwards,
Director, Special Review and Reregistration Division, Office of Pesticide Programs.

[FR Doc. 05-18074 Filed 9-8-05; 2:30 pm]

BILLING CODE 6560-50-S